DEPARTMENT OF THE INTERIOR

Bureau of Land Management

[PO#4820000251]

Public Meeting for the National Advisory Committee for Implementation of the Bureau of Land Management Public Lands Rule

AGENCY: Bureau of Land Management, Interior.

ACTION: Notice of public meeting.

SUMMARY: In accordance with the Federal Land Policy and Management Act of 1976 and the Federal Advisory Committee Act of 1972, the U.S. Department of the Interior, Bureau of Land Management (BLM) National Advisory Committee for Implementation of the BLM Public Lands Rule will meet as follows.

DATES: The Committee will meet virtually on February 19, 2025, from 9 a.m. to 2:30 p.m. mountain time.

ADDRESSES: The meeting will be held virtually. The meeting will be open to the public. Attendees must register to participate with the individual listed in the FOR FURTHER INFORMATION CONTACT section of this notice at least 3 business days prior to the meeting date.

FOR FURTHER INFORMATION CONTACT: John Gale, Designated Federal Officer, BLM National Headquarters, 760 Horizon Drive, Suite 102, Grand Junction, CO 81506; telephone: (970) 730-7512; email: jgale@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member council advises the Secretary of the Interior, through the BLM, regarding implementation of the Public Lands Rule and associated outreach and engagement activities. Agenda topics will include Committee member introductions, orientation for compliance with the Federal Advisory Committee Act, an ethics briefing, and review on the purpose and function of the Committee including roles and responsibilities for members, the Designated Federal Officer, and other Federal employees. A final agenda will be posted on the Committee's web page at https://www.blm.gov/about/laws-and-regulations/public-lands-rule-advisory-committee two weeks in advance of the meeting. Written comments to the Committee can be emailed in advance to the individual listed in the FOR FURTHER INFORMATION CONTACT section of this notice.

Depending on the number of persons wishing to comment and time available, the time for individual oral comments may be limited. Before including your address, phone number, email address, or other personal identifying information in your comments, please be aware that your entire comment, including your personally identifying information, may be made publicly available at any time. While you can ask us in your comment to withhold your personally identifying information from public review, we cannot guarantee that we will be able to do so.

Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

(Authority: 43 CFR 1784.4-2).

John Gale,
Designated Federal Officer.

[FR Doc. 2025-00600 Filed 1-13-25; 8:45 am]

BILLING CODE 4331-27-P